DEPARTMENT OF LABOR

Employment and Training Administration

[TA-W-38,452]

ARA Cutting, LC, Miami, FL; Amended Certification Regarding Eligibility To Apply for Worker Adjustment Assistance

In accordance with Section 223 of the Trade Act of 1974 (19 U.S.C. 2273), the Department of Labor issued a Certification of Eligibility to Apply for Worker Adjustment Assistance on February 13, 2001, applicable to workers of ARA Cutting, LC, Miami, Florida. The notice was published in the Federal Register on April 5, 2001 (66 FR 18118).

At the request of the State agency, the Department reviewed the certification for workers of the subject firm. The workers were engaged in the production of pants and shorts. New information provided by the State shows that workers separated from employment at ARA Cutting, LC had their wages reported under two separate unemployment insurance (UI) tax accounts; ADP Total Source FL XZII, Inc., Miami, Florida and United Enterprises of Southwest Florida. Inc., d/b/a Fidelity United Miami, Florida.

Accordingly, the Department is amending the certification to properly reflect this matter.

The intent of the Department's certification is to include all workers of ARA Cutting, LC adversely affected by increased imports.

The amended notice applicable to TA-W-38,452 is hereby issued as follows:

All workers of the ARA Cutting, LC, Miami, Florida, including those receiving their compensation through ADP Total Source FL XZII, Inc., Miami, Florida and United Enterprises of Southwest Florida, Inc., d/b/a Fidelity United, Miami, Florida, who became totally or partially separated from employment on or after December 6, 1999, through February 13, 2003, are eligible to apply for adjustment assistance under section 223 of the Trade Act of 1974.

Signed at Washington, DC this 3rd day of December, 2001.
Linda G. Poole,
Certifying Officer, Division of Trade Adjustment Assistance

[FR Doc. 01-31151 Filed 12-17-01; 8:45 am]

BILLING CODE 4510-30-M